DEPARTMENT OF ENERGY

Federal Energy Regulatory Commission

Combined Notice of Filings #2

Take notice that the Commission received the following exempt wholesale generator filings:

Docket Numbers: EG21-169-000.

Applicants: BRP Sweeny BESS LLC.

Description: BRP Sweeny BESS LLC submits Notice of Self-Certification of Exempt Wholesale Generator Status.

Filed Date: 6/16/21.

Accession Number: 20210616-5074.

Comments Due: 5 p.m. ET 7/7/21.

Take notice that the Commission received the following electric rate filings:

Docket Numbers: ER20-263-003.

Applicants: Doswell Limited Partnership.

Description: Report Filing: Refund Report Informational Filing to be effective N/A.

Filed Date: 6/16/21.

Accession Number: 20210616-5051.

Comments Due: 5 p.m. ET 7/7/21.

Docket Numbers: ER21-797-002.

Applicants: PJM Interconnection, L.L.C.

Description: Tariff Amendment: Supplement & Correction: Amendment to ISA, SA No. 5869; Queue No. AE2-126 to be effective 12/3/2020.

Filed Date: 6/15/21.

Accession Number: 20210615-5126.

Comments Due: 5 p.m. ET 7/6/21.

Docket Numbers: ER21-2135-000.

Applicants: Enerwise Global Technologies, Inc.

Description: Request for Limited Waiver of Enerwise Global Technologies, Inc.

Filed Date: 6/14/21.

Accession Number: 20210614-5154.

Comments Due: 5 p.m. ET 7/6/21.

Docket Numbers: ER21-2144-000.

Applicants: PJM Interconnection, L.L.C.

Description: § 205(d) Rate Filing: Amendment to WMPA, Service Agreement No. 4794; Queue No. AC1-116 to be effective 8/22/2017.

Filed Date: 6/16/21.

Accession Number: 20210616-5057.

Comments Due: 5 p.m. ET 7/7/21.

Docket Numbers: ER21-2145-000.

Applicants: Cedar Creek II, LLC.

Description: Compliance filing: New eTariff Baseline Filing to be effective 7/6/2021.

Filed Date: 6/16/21.

Accession Number: 20210616-5063.

Comments Due: 5 p.m. ET 7/7/21.

Docket Numbers: ER21-2146-000.

Applicants: Southern California Edison Company.

Description: § 205(d) Rate Filing: DSA Santa Paula Energy Storage, LLC SA No. 1147 & Terminate Ltr Agmt SA No. 1096 to be effective 8/16/2021.

Filed Date: 6/16/21.

Accession Number: 20210616-5064.

Comments Due: 5 p.m. ET 7/7/21.

Docket Numbers: ER21-2147-000.

Applicants: Midcontinent Independent System Operator, Inc.

Description: § 205(d) Rate Filing: 2021-06-16_SA 3668 GRE-WMU T-T & T-L to be effective 6/17/2021.

Filed Date: 6/16/21.

Accession Number: 20210616-5066.

Comments Due: 5 p.m. ET 7/7/21.

Docket Numbers: ER21-2148-000.

Applicants: Gulf Power Company.

Description: § 205(d) Rate Filing: Facility Construction Agreement for Affected System Project to be effective 6/17/2021.

Filed Date: 6/16/21.

Accession Number: 20210616-5073.

Comments Due: 5 p.m. ET 7/7/21.

Docket Numbers: ER21-2149-000.

Applicants: Minco Wind Energy II, LLC.

Description: Baseline eTariff Filing: MBR Tariff & Application to be effective 8/16/2021.

Filed Date: 6/16/21.

Accession Number: 20210616-5080.

Comments Due: 5 p.m. ET 7/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 16, 2021.
Debbie-Anne A. Reese,
Deputy Secretary.

[FR Doc. 2021-13165 Filed 6-22-21; 8:45 am]

BILLING CODE 6717-01-P